SMALL BUSINESS ADMINISTRATION

[License No. 09/79-0398]

Sorrento Growth Partners I, L.P.; Notice Seeking Exemption Under Section 312 of the Small Business Investment Act, Conflicts of Interest

Notice is hereby given that Sorrento Growth Partners I, L.P., 4370 La Jolla Village Drive, Suite 1040, San Diego, CA 92122, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730 (2006)). Sorrento Growth Partners I, L.P. provided debt financing to Perlan Therapeutics, Inc., 6310 Nancy Ridge Drive, Suite 102, San Diego, CA 92121. The financing is contemplated for operating expenses and general corporate purposes.

The financing is brought within the purview of § 107.730(a)(1) of the Regulations because three Associates, Sorrento Ventures CE, L.P., Sorrento Ventures III, L.P. and Sorrento Ventures IV, L.P., by way of common management, collectively own more than ten percent of the Company. Therefore, Perlan Therapeutics, Inc. is also considered an Associate of Sorrento Growth Partners I, L.P. as defined at 13 CFR 107.50 of the SBIC Regulations.

Notice is hereby given that any interested person may submit written comments on the transaction to the Associate Administrator for Investment, U.S. Small Business Administration, 409 3rd Street, SW., Washington, DC 20416.

Jaime Guzmn-Fournier,
Associate Administrator for Investment.

[FR Doc. E7-6638 Filed 4-6-07; 8:45 am]

BILLING CODE 8025-01-P